DEPARTMENT OF HOMELAND SECURITY

Coast Guard

33 CFR Part 117

[USCG-2014-0119]

Drawbridge Operation Regulation; Housatonic River, Stratford, CT

AGENCY: Coast Guard, DHS.

ACTION: Notice of deviation from drawbridge regulation.

SUMMARY: The Coast Guard has issued a temporary deviation from the operating schedule that governs the Metro-North (Devon) Bridge across the Housatonic River, mile 3.9, at Stratford, Connecticut. The deviation is necessary to facilitate structural repairs at the bridge. This temporary deviation authorizes the bridge to remain in the closed position Monday through Thursday for eight weeks to facilitate repairs at the bridge.

DATES: This deviation is effective from 6 a.m. on April 1, 2014 through 6 p.m. on May 22, 2014.

ADDRESSES: The docket for this deviation, USCG-2014-0119 is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, telephone (212) 668-7165, email judy.k.leung-yee@uscg.mil. If you have questions on viewing the docket, call Cheryl Collins, Program Manager, Docket Operations, telephone 202-366-9826.

SUPPLEMENTARY INFORMATION: The Metro-North (Devon) Bridge at mile 3.9, across Housatonic River at Stratford, Connecticut, has 19 feet of vertical clearance at mean high water and 25 feet of vertical clearance at mean low water. The existing drawbridge operation regulations are listed at 33 CFR 117.207(b).

The owner of the bridge, Connecticut Department of Transportation, requested a temporary deviation from the schedule to facilitate structural repairs at the bridge.

The waterway has recreational vessels traffic of various sizes.

Under this temporary deviation the Metro-North (Devon) Bridge at mile 3.9, across the Housatonic River may remain in the closed position from 6 a.m. Monday through 6 p.m. on Thursday, from April 1, 2014 through May 22, 2014. Vessels able to pass through the bridge in the closed positions may do so at anytime. There is no alternate route for vessels to pass. The Coast Guard will also inform the users of the waterways through our Local and Broadcast Notice to Mariners of the change in operating schedule for the bridge so that vessels can arrange their transits to minimize any impact caused by the temporary deviation.

The Coast Guard contacted the marinas and no objections were received.

In accordance with 33 CFR 117.35(e), the drawbridge must return to its regular operating schedule immediately at the end of the effective period of this temporary deviation. This deviation from the operating regulations is authorized under 33 CFR 117.35.

Dated: March 18, 2014.
C.J. Bisignano,
Supervisory Bridge Management Specialist, First Coast Guard District.

[FR Doc. 2014-06843 Filed 3-26-14; 8:45 am]

BILLING CODE 9110-04-P